DEPARTMENT OF AGRICULTURE

Forest Service

Caribou-Targhee National Forest, Fremont County, ID, Big Bend Vegetation Management Project

AGENCY: Forest Service, USDA.

ACTION: Notice.

Revision of the Notice of Intent to prepare an Environmental Impact Statement for the Big Bend Ridge Vegetation Management Project, as published in the Federal Register page 40876 to 40877 on July 31, 1998 (Vol. 63, No. 147). This revision includes a change of project schedule and treatment acres.

SUMMARY: The USDA, Forest Service is preparing an Environmental Impact Statement of document the analysis and disclose the environmental impacts of the proposed Big Bend Vegetation Management Project, a timber sale and vegetation treatment. This revised Notice of Intent is to document some minor changes in the process.

In the original NOI, the tentative date for filing the Draft EIS was December of 1998 and the Final EIS was scheduled for March, 1999. Due to scheduling changes, the Draft EIS is now expected to be available for review in April, 2003. The final EIS is scheduled to be completed about July 2003.

The original NOI proposed approximately 1800 acres of prescribed burning to rejuvenate maple and aspen, reduce fuels in the wildland urban interface, improve big game winter range and test methods of Douglas-fir regeneration. The proposed action now proposes a total of 123 acres of prescribed burning. The objective of the 123 acres of burning is to promote aspen and shrubs in a high use big game wintering area. The rejuvenation of maple and the majority of big game winter range improvement were determined to be unnecessary. Timber harvest is now being proposed to accomplish aspen regeneration, big game browse improvement and fuels reduction. A nearby 2001 wildfire is being used to evaluate Douglas-fir regeneration from fire.

The original NOI proposed approximately 2500 acres of commercial thinning with 70 percent of it helicopter or cable harvest and 30 percent done with crawler tractor. The proposed action now includes 3023 acres of commercial thinning, improvement cutting and sanitation salvage with 40 percent helicopter harvest and 60 percent ground based harvest.

Dated: April 10, 2003.
Jerry B. Reese,
Caribou-Targhee National Forest Supervisor.

[FR Doc. 03-9420 Filed 4-16-03; 8:45 am]

BILLING CODE 3410-11-M